DEPARTMENT OF HEALTH AND HUMAN SERVICES

Centers for Disease Control and Prevention

[30Day-15-0821]

Agency Forms Undergoing Paperwork Reduction Act Review

The Centers for Disease Control and Prevention (CDC) has submitted the following information collection request to the Office of Management and Budget (OMB) for review and approval in accordance with the Paperwork Reduction Act of 1995. The notice for the proposed information collection is published to obtain comments from the public and affected agencies.

Written comments and suggestions from the public and affected agencies concerning the proposed collection of information are encouraged. Your comments should address any of the following: (a) Evaluate whether the proposed collection of information is necessary for the proper performance of the functions of the agency, including whether the information will have practical utility; (b) Evaluate the accuracy of the agencies estimate of the burden of the proposed collection of information, including the validity of the methodology and assumptions used; (c) Enhance the quality, utility, and clarity of the information to be collected; (d) Minimize the burden of the collection of information on those who are to respond, including through the use of appropriate automated, electronic, mechanical, or other technological collection techniques or other forms of information technology, e.g., permitting electronic submission of responses; and (e) Assess information collection costs.

To request additional information on the proposed project or to obtain a copy of the information collection plan and instruments, call (404) 639-7570 or send an email to omb@cdc.gov. Written comments and/or suggestions regarding the items contained in this notice should be directed to the Attention: CDC Desk Officer, Office of Management and Budget, Washington, DC 20503 or by fax to (202) 395-5806. Written comments should be received within 30 days of this notice.

Proposed Project

Quarantine Station Illness Response Forms: Airline, Maritime, and Land/Border Crossing (0920-0821, exp. 08/31/15)—Revision—National Center for Emerging and Zoonotic Infectious Diseases, Centers for Disease Control and Prevention (CDC).

Background and Brief Description

CDC is requesting a revision to a currently approved information collection, Quarantine Station Illness Response Forms: Airline, Maritime, and Land/Border Crossing). This revision seeks to incorporate the changes that resulted from activities undertaken during the response to Ebola. These changes include two major components, both of which have been given previous emergency clearance by OMB under Control Number 0920-1031 and 0920-1034, with an expiration date of April 30, 2015. As a part of this revision, CDC is requesting the full three year approval and 12 months of burden for the following:

The incorporation of two public health screening forms that are currently used to assess risk for Ebola in travelers coming to the United States from countries experiencing widespread transmission of the disease. These forms are the United States Traveler Health Declaration and a completely revised Ebola Entry Screening Risk Assessment Form, each given approval from OMB under OMB Control No 0920-1031. The additional burden requested for the English versions of the health declaration and the risk assessment form, as well as the French and Arabic translation guides for the health declaration and risk assessment forms, is 13,664 hours.

In this revision, CDC is maintaining the ability to use the Ebola Entry Screening Risk Assessment Form in the event that a traveler is identified as ill on a U.S.-bound flight prior to arrival. In the no material or non-substantive change to a currently approved collection granted by OMB on 9/18/2014, CDC requested 100 respondents and 5 hours of burden. Because the risk assessment form is more comprehensive, it requires more time for a traveler to complete the assessment. CDC is requesting an additional 20 hours of burden for the purpose of assessing ill travelers, for a total of 25 hours of burden. No additional respondents are requested.

CDC is also requesting the incorporation of a telephonic, automated survey administered through the Interactive Voice Response (IVR) phone system, which asks travelers if they have developed a fever or any other symptoms potentially indicative of Ebola exposure (OMB Control No 0920-1034). The IVR system would be implemented to assist state and local public health authorities with active monitoring of individuals coming to the United States from countries affected by the current Ebola outbreak. Use of this information collection tool would be voluntary and provides a cost- and time-saving mechanism for supporting states with their active monitoring responsibilities. The additional 12-month annualized burden requested for the use of the IVR system is approximately 71,400 hours.

No revisions are requested to the Air Travel, Maritime Conveyance or Land Travel Illness and Death Investigation forms or burden associated with these forms. The current burden associated with these routine information collections is 314 hours.

This revision to 0920-0821 incorporates burden estimates provided for the emergency information collection 0920-1031 and 0920-1034, which have been updated and annualized. The total additional burden requested for this revision is 105,571 respondents and 85,063 burden hours. The estimated total burden for 0920-0821 is 109,429 respondents and 85,382 burden hours. There is no burden to respondents other than their time.

Estimated Annualized Burden Hours
Respondent | Form | Number of respondents | Number of responses per respondent | Average burden per response (in minutes)
Traveler | Airline Travel Illness or Death Investigation Form | 1,626 | 1 | 5/60
Traveler | Maritime Conveyance Illness or Death Investigation Form | 1,873 | 1 | 5/60
Traveler | Land Travel Illness or Death Investigation Form | 259 | 1 | 5/60
Traveler | Ebola Entry Screening Risk Assessment Form (Ill traveler interview: English, French, Arabic, or other as needed) | 100 | 1 | 15/60
Traveler | United States Travel Health Declaration (English: Hard Copy, fillable PDF, electronic portal) | 49,238 | 1 | 15/60
Traveler | United States Travel Health Declaration (French translation guide) | 1,586 | 1 | 15/60
Traveler | United States Travel Health Declaration (Arabic translation guide) | 176 | 1 | 15/60
Traveler | Ebola Entry Screening Risk Assessment Form (English hard copy) | 3,447 | 1 | 15/60
Traveler | Ebola Entry Screening Risk Assessment French translation guide | 111 | 1 | 15/60
Traveler | Ebola Entry Screening Risk Assessment Arabic translation guide | 13 | 1 | 15/60
Traveler | IVR Active Monitoring Survey (English: Recorded) | 49,238 | 21 | 4/60
Traveler | IVR Active Monitoring Survey (French: Recorded) | 1,586 | 21 | 4/60
Traveler | IVR Active Monitoring: Arabic translation assistance | 176 | 21 | 4/60

Leroy A. Richardson,
Chief, Information Collection Review Office, Office of Scientific Integrity, Office of the Associate Director for Science, Office of the Director, Centers for Disease Control and Prevention.

[FR Doc. 2015-02624 Filed 2-9-15; 8:45 am]

BILLING CODE 4163-18-P